DEPARTMENT OF ENERGY

Federal Energy Regulatory Commission

[Docket No. PF04-13-000]

El Paso Pipeline Group, Western Pipelines; Notice of Intent To Prepare an Environmental Impact Statement for the Piceance Basin Expansion Project, Request for Comments on Environmental Issues, and Notice of Public Scoping Meetings and Route Inspection

July 14, 2004.

The staff of the Federal Energy Regulatory Commission (FERC or Commission) will prepare an environmental impact statement (EIS) on the El Paso Pipeline Group, Western Pipeline's (El Paso) planned Piceance Basin Expansion Project in northwestern Colorado and south-central Wyoming. This notice announces the opening of the scoping process the Commission will use to gather input from the public and interested agencies on the planned project. Your input will help to determine which issues need to be evaluated in the EIS. The Commission will use the EIS in its decisionmaking process to determine whether or not to authorize the project. Please note that the scoping period will close on August 16, 2004.

Comments may be submitted in written form or verbally. Further details on how to submit written comments are provided in the Public Participation section of this notice. In lieu of sending written comments, you are invited to attend the public scoping meetings scheduled as follows:

Schedule for Public Scoping Meetings
Date and time | Location
August 3, 2004, at 7 p.m. | Moffat County Commissioner's Office—Shadow Mountain Facility, 1055 County Road 7, Craig, CO.
August 4, 2004, at 7 p.m. | Meeker Community Center—Fairfield Center, 200 Main Street, Meeker, CO.
Note that El Paso plans to hold open house meetings to announce its project to the public on the same dates and at the same locations as the FERC public scoping meetings. The open houses will begin at 6:30 p.m.

Public scoping meetings are being held in the two Colorado counties where the majority of the planned facilities would be located. Because El Paso's planned pipeline would be located along the same route in Wyoming as the planned Entrega Pipeline Project (PF04-7-000) for which scoping was recently concluded, we are not scheduling an additional public meeting in Wyoming. However, this should not discourage the submission of written comments regarding the facilities planned for the Wyoming portion of El Paso's project.

This notice is being sent to landowners; Federal, State, and local government agencies; elected officials; environmental and public interest groups; Native American tribes; other interested parties; and local libraries and newspapers. We ¹ urge government representatives to notify their constituents of this planned project and encourage them to comment on their areas of concern.

¹ “We,” “us,” and “our” refer to the environmental staff of the FERC's Office of Energy Projects.

Summary of the Proposed Project

El Paso is planning to construct, own, and operate a new 143-mile, 24-inch-diameter interstate natural gas pipeline that will extend from its existing Greasewood Compressor Station near Meeker in the Piceance Basin of Rio Blanco County, Colorado, to its existing Wamsutter Compressor Station in Sweetwater County near Wamsutter, Wyoming. Here, the new pipeline would interconnect with existing pipeline systems owned by Wyoming Interstate Company and Colorado Interstate Gas Company (CIG). This project could add at least 350,000 decatherms per day of new capacity to transport natural gas from the Western Rocky Mountain Region to markets in the midwestern and eastern United States.

The project would include the addition of compression at the Greasewood Compressor Station, and construction of other appurtenant facilities. The proposed pipeline alignment would follow existing pipeline or utility corridors for about 85 percent of its length.

One of El Paso's customers would need to transport gas between a location in the Parachute Valley, Garfield County, Colorado, and the Greasewood Compressor Station. Various transport means, including the use of both existing and new facilities, are under consideration. However, one option would require construction of a new 36-mile-long interconnecting pipeline from the area of the existing Roan Cliffs Meter Station (north of Parachute) to the Greasewood Compressor Station. If constructed, the route of the interconnecting pipeline would generally parallel CIG's existing Parachute Creek Lateral pipeline. Information on an interconnecting pipeline will be included in the analysis presented in the EIS. Construction of new interconnecting facilities would be the responsibility of the customer.

A map depicting El Paso's planned pipeline route between the Greasewood Compressor Station and the Wamsutter area, and the interconnecting pipeline route between the Roan Cliffs Meter Station and the Greasewood Compressor Station is provided in appendix 1.²

² The appendices referenced in this notice are not being printed in the Federal Register. Copies are available on the Commission's Internet Web site http://www.ferc.gov) at the “eLibrary” link or from the Commission's Public Reference Room at (202) 502-8371. For instructions on connecting to eLibrary, refer to the end of this notice. Copies of the appendices are being sent to all those receiving this notice in the mail.

El Paso plans to place the project in service by June 2006, with the majority of pipeline construction completed by the end of 2005. To achieve the initial in-service date, El Paso intends to request approval to begin construction of the Piceance Basin Expansion facilities in August 2005.

Land Requirements

El Paso's planned pipeline would disturb about 1,750 acres of land during construction. Where paralleling another pipeline, the new pipeline would typically be located about 50 to 75 feet from the existing pipeline. El Paso plans to use a 100-foot-wide right-of-way (ROW) during construction, and subsequently maintain a 50-foot-wide permanent ROW. The construction ROW would be expanded at special work areas (e.g., steep slopes, major stream crossings).

Construction of the interconnecting pipeline would disturb about 450 acres during construction, based on a 100-foot-wide construction ROW. A 50-foot permanent right-of-way would be requested for this pipeline.

The EIS Process

The FERC will be the lead Federal agency for the EIS process, which is being conducted to satisfy the requirements of the National Environmental Policy Act (NEPA). NEPA requires the Commission to take into account the environmental impacts that could result from an action whenever it considers the issuance of a Certificate of Public Convenience and Necessity (Certificate).

NEPA also requires us to discover and address issues and concerns the public may have about proposals which come before the Commission, and to ensure those issues and concerns are analyzed in the EIS. This process is referred to as “scoping.” The goal of the scoping process is to focus the analysis in the EIS on the important and potentially significant environmental issues related to the proposed action, and on reasonable alternatives. This notice formally announces the beginning of the scoping process and requests agency and public comments on El Paso's planned Piceance Basin Expansion Project. All scoping comments received will be considered during the preparation of the EIS. To ensure your comments are considered, please carefully follow the instructions in the Public Participation section of this notice.

Our independent analysis of El Paso's planned project will be included in a draft EIS. The draft EIS will be mailed to Federal, State, and local government agencies; elected officials; environmental and public interest groups; Native American tribes; affected landowners; other interested parties; local libraries and newspapers; and the Commission's official service list. A 45-day comment period will be allotted for review of the EIS. We will consider all timely comments and revise the document, as necessary, before issuing a final EIS.

The El Paso's planned Piceance Basin Expansion Project is in the preliminary design stage. At this time, specific routing and other details are being finalized and no formal application has been filed with the FERC. El Paso expects to file a formal application with the FERC in November 2004. Although we have no formal Certificate application, we are initiating our environmental review of El Paso's planned project under our NEPA Pre-Filing Process. The purpose of the FERC's NEPA Pre-filing Process is to:

• Establish a framework for constructive discussion between the project proponents, potentially affected landowners, agencies, and the Commission staff;

• Encourage the early involvement of interested stakeholders to identify issues and study needs; and

• Attempt to resolve issues early, before an application is filed with the FERC.

We have already held early discussions with the U.S. Department of the Interior's Bureau of Land Management, which has agreed to assist us in the preparation of the EIS as a cooperating agency to satisfy its NEPA responsibilities. By this notice, we are asking other Federal, State, and local agencies with jurisdiction and/or special expertise with respect to environmental issues to formally cooperate with us, too. Agencies that would like to request cooperating status should follow the instructions for filing comments provided below.

Public Participation

You can make a difference by providing us with your specific comments or concerns about the planned project. Please focus your comments on the potential environmental effects, reasonable alternatives (including alternative facility sites and pipeline routes), and measures to avoid or lessen environmental impact. The more specific your comments, the more useful they will be. To ensure that your comments are timely and properly recorded, please mail your comments so that they will be received in Washington, DC on or before August 16, 2004, and carefully follow these instructions:

• Send an original and two copies of your letter to: Magalie R. Salas, Secretary, Federal Energy Regulatory Commission, 888 First Street, NE., Room 1A, Washington, DC 20426;

• Label one copy of your comments for the attention of Gas Branch 1; and

• Reference Docket No. PF04-13 on the original and both copies.

The public scoping meetings (see page 1 of this notice) are designed to provide another opportunity to offer comments on the planned project. Interested groups and individuals are encouraged to attend the meetings and present comments on the environmental issues they believe should be addressed in the EIS. A transcript of the meetings will be made so that your comments will be accurately recorded.

A docket number (PF04-13-000) has been established to place information filed by El Paso, related documents issued by the Commission, and public scoping comments into the public record.³ Once a formal application is filed, the Commission will:

³ To view information in the docket, follow the instructions for using the eLibrary link in Availability of Additional Information, below.

• Publish a Notice of Application in the Federal Register;

• Establish a new docket number; and

• Set a deadline for interested persons to intervene in the proceeding.

Because the Commission's NEPA Pre-Filing Process occurs before an application to begin a proceeding is officially filed, petitions to intervene during this process are premature and will not be accepted by the Commission.

The Commission encourages electronic filing of comments. See 18 CFR 385.2001(a)(1)(iii) and the instructions on the Commission's Internet Web site at http://www.ferc.gov under the “eFiling” link and the link to the User's Guide. Prepare your submission in the same manner as you would if filing on paper and save it to a file on your hard drive. Before you can file comments you will need to create a free account by clicking on “Login to File” and then “New User Account.” You will be asked to select the type of filing you are making. This filing is considered a “Comment on Filing.”

Route Inspection

Concurrent with the public scoping meetings (August 3 and 4, 2004), we will also be conducting an inspection of the route and locations of aboveground facilities associated with El Paso's planned project. This inspection will include both aerial and ground components. Anyone interested in participating in the inspection activities may contact the FERC's Office of External Affairs (identified below) for more details and must provide their own transportation.

Environmental Mailing List

If you wish to remain on our mailing list to receive any additional environmental notices and copies of the draft and final EIS, it is important that you return the Return Mailer (appendix 2) attached to this notice. If you do not return the mailer, you will be removed from our mailing list.

Availability of Additional Information

Additional information about the planned project is available from the Commission's Office of External Affairs, at 1-866-208-FERC (3372) or on the FERC Internet Web site (http://www.ferc.gov) using the eLibrary link. Click on the eLibrary link, click on “General Search” and enter the docket number (i.e., PF04-13-000) excluding the last three digits in the Docket Number field. Be sure you have selected an appropriate date range. For assistance, please contact FERC Online Support at FERCOnlineSupport@ferc.gov or toll free at 1-866-208-3676, or for TTY, contact (202) 502-8659.

The Commission now offers a free service called eSubscription that allows you to keep track of all formal issuances and submittals in specific dockets. This can reduce the amount of time you spend researching proceedings by automatically providing you with notification of these filings, document summaries, and direct links to the documents. To register for this service, go to http://www.ferc.gov/esubscribenow.htm.

In addition, a fact sheet prepared by the FERC entitled “An Interstate Natural Gas Facility On My Land? What Do I Need To Know?” is available for viewing on the FERC Internet Web site. This fact sheet addresses a number of typically asked questions, including the use of eminent domain and how to participate in the Commission's proceedings.

El Paso has initiated a Public Participation Plan to provide a means of communication for participating stakeholders. A toll-free number has been established for communicating with El Paso regarding this project (Mr. David R. Anderson, Land Department Manager, 1-877-598-5263). Also, contacts and information requests can be made by e-mail directly to El Paso at david.r.anderson@elpaso.com. Finally, El Paso plans to establish a Web site for this project by the end of July 2004. The Web site will include a list of public repositories along the planned route where all maps and Federal applications are available for inspection, frequently asked questions regarding the planned project, and other useful information. El Paso's Web site will be: http://www.elpaso.com.

Magalie R. Salas,
Secretary.

[FR Doc. E4-1621 Filed 7-20-04; 8:45 am]

BILLING CODE 6717-01-P